INTERNATIONAL TRADE COMMISSION

[Investigation Nos. 701-TA-588 and 731-TA-1392-1393 (Final) (Remand)]

Polytetrafluoroethylene Resin From China and India

AGENCY: United States International Trade Commission.

ACTION: Notice of remand proceedings.

SUMMARY: The U.S. International Trade Commission (“Commission”) hereby gives notice of the remand of its final determinations in the antidumping duty and countervailing duty investigations of polytetrafluoroethylene resin (“PTFE”) from China and India. For further information concerning the conduct of these remand proceedings and rules of general application, consult the Commission's Rules of Practice and Procedure.

DATES: Applicable June 25, 2020.

FOR FURTHER INFORMATION CONTACT: Mary Messer (202-205-3193), Office of Investigations, or Karl von Schriltz (703-356-3293), Office of General Counsel, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record of Investigation Nos. 701-TA-588 and 731-TA-1392-1393 (Final) may be viewed on the Commission's electronic docket (EDIS) at http://edis.usitc.gov.

SUPPLEMENTARY INFORMATION:

Background.—In July 2018, the Commission unanimously determined that an industry in the United States was neither materially injured nor threatened with material injury by reason of PTFE from India found by the U.S. Department of Commerce (“Commerce”) to be subsidized by the Government of India. PTFE from China and India, Investigation Nos. 701-TA-588 and 731-TA-1392-1393 (Final), USITC Pub. 4801 (Jul. 2018). Subsequently, in November 2018, in the antidumping investigations, the Commission likewise reached unanimous negative determinations with respect to imports of PTFE resin from China and India found by Commerce to be sold in the United States at less than fair value. PTFE from China and India, Investigation Nos. 731-TA-1392-1393 (Final), USITC Pub. 4841 (Nov. 2018). Petitioner, The Chemours Company FC, LLC, contested the Commission's determinations before the U.S. Court of International Trade. The court affirmed in part and remanded in part the Commission's determinations. The Chemours Company FC, LLC v. United States, Slip. Op. 20-61 (Ct. Int'l Trade, May 6, 2020). Specifically, the court remanded for the Commission “to explain further its decision not to discount post-petition data, taking into account the increase in subject import prices in the final quarter of 2017.” Slip Op. at 33.

Participation in the proceeding.—Only those persons who were interested parties that participated in the investigations (i.e., persons listed on the Commission Secretary's service list) and also parties to the appeal may participate in the remand proceedings. Such persons need not make any additional notice of appearances or applications with the Commission to participate in the remand proceedings, unless they are adding new individuals to the list of persons entitled to receive business proprietary information (“BPI”) under administrative protective order. BPI referred to during the remand proceedings will be governed, as appropriate, by the administrative protective order issued in the investigations. The Secretary will maintain a service list containing the names and addresses of all persons or their representatives who are parties to the remand proceedings, and the Secretary will maintain a separate list of those authorized to receive BPI under the administrative protective order during the remand proceedings.

Written Submissions.—The Commission is not reopening the record and will not accept the submission of new factual information for the record. The Commission will permit the parties to file comments concerning how the Commission could best comply with the Panel's remand instructions.

The comments must be based solely on the information in the Commission's record. The Commission will reject submissions containing additional factual information or arguments pertaining to issues other than the one on which the Panel has remanded this matter. The deadline for filing comments is July 3, 2020. Comments shall be limited to no more than ten (10) double-spaced and single-sided pages of textual material, inclusive of attachments and exhibits.

Parties are advised to consult with the Commission's Rules of Practice and Procedure, part 201, subparts A through E (19 CFR part 201), and part 207, subpart A (19 CFR part 207) for provisions of general applicability concerning written submissions to the Commission. All written submissions must conform to the provisions of § 201.8 of the Commission's rules; any submissions that contain BPI must also conform with the requirements of §§ 201.6, 207.3, and 207.7 of the Commission's rules. Please note the Secretary's Office will accept only electronic filings at this time. Filings must be made through the Commission's Electronic Document Information System (EDIS, https://edis.usitc.gov). No in-person paper-based filings or paper copies of any electronic filings will be accepted until further notice. The Commission's Handbook on E-Filing, available on the Commission's website at http://edis.usitc.gov, elaborates upon the Commission's rules with respect to electronic filing.

Additional written submissions to the Commission, including requests pursuant to § 201.12 of the Commission's rules, will not be accepted unless good cause is shown for accepting such submissions or unless the submission is pursuant to a specific request by a Commissioner or Commission staff.

In accordance with §§ 201.16(c) and 207.3 of the Commission's rules, each document filed by a party to the investigation must be served on all other parties to the investigation (as identified by either the public or BPI service list), and a certificate of service must be timely filed. The Secretary will not accept a document for filing without a certificate of service.

By order of the Commission.
Issued: June 12, 2020.
Lisa Barton,
Secretary to the Commission.

[FR Doc. 2020-13085 Filed 6-24-20; 8:45 am]

BILLING CODE 7020-02-P